ENVIRONMENTAL PROTECTION AGENCY

[FRL-10023-47-Region 9]

Public Water System Supervision Program Revision for the State of Nevada

AGENCY: Environmental Protection Agency (EPA).

ACTION: Notice of tentative approval.

SUMMARY: Notice is hereby given that the State of Nevada (State) revised its approved Public Water System Supervision (PWSS) Program under the federal Safe Drinking Water Act (SDWA) by incorporating by reference the federal Arsenic Rule The Environmental Protection Agency (EPA) has determined that the State's revisions are no less stringent than the corresponding Federal regulations and otherwise meet applicable SDWA primacy requirements. Therefore, EPA intends to approve the stated revisions to the State's PWSS Program.

DATES: A request for a public hearing must be received on or before June 9, 2021.

ADDRESSES: All documents relating to this determination are available for inspection online at http://ndep.nv.gov/posts. In addition, documents relating to this determination are available for inspection by appointment between the hours of 8:30 a.m. and 4:00 p.m., Monday through Friday, except official State or Federal holidays at the following address: Nevada Department of Environmental Protection, Administration Office, 901 South Stewart Street, Suite 4001, Carson City, NV 89701. Please contact the Bureau of Safe Drinking Water at (775) 687-9521 to schedule an appointment.

FOR FURTHER INFORMATION CONTACT: Jacob Jenzen, United States Environmental Protection Agency, Region 9, Drinking Water Section, via telephone number: (415) 972-3570 or email address: Jenzen.Jacob@epa.gov.

SUPPLEMENTARY INFORMATION: Background. EPA approved the State's initial application for PWSS Program primary enforcement authority (“primacy”) on February 27, 1978 (43 FR 8030). Since initial approval, EPA has approved various revisions to Nevada's PWSS Program. For the revisions covered by this action, EPA revised the Arsenic Rule on January 22, 2001 (66 FR 6976). The revisions included a more stringent federal standard for arsenic in drinking water from 0.050 mg/L to 0.010 mg/L to better protect public health. The State submitted its final application to add the Arsenic Rule to its approved PWSS Program on December 30, 2011, followed by an application supplement on February 11, 2021. EPA has determined that the Arsenic Rule was incorporated by reference into the Nevada Administrative Code (NAC), Title 40 Chapter 445A, in a manner that Nevada's regulations are comparable to and no less stringent than the federal requirements. EPA has also determined that State's primacy revision meets all of the regulatory requirements for approval, as set forth in 40 CFR 142.12, including a side-by-side comparison of the Federal requirements and the corresponding State authorities, additional materials to support special primacy requirements of 40 CFR 142.16, and a statement by the Nevada Attorney General certifying that Nevada's laws and regulations adopted by the State to carry out the program revisions were duly adopted and are enforceable. Therefore, EPA intends to approve the State's revisions as part of its PWSS Program.

Public Process. Any interested party may request a public hearing on this determination. A request for a public hearing must be received or postmarked by June 9, 2021, and addressed to the Regional Administrator at the EPA Region 9, via the following email address: R9dw-program@epa.gov. Please note, “State Primacy Rule Determination” in the subject line of the email. The Regional Administrator may deny frivolous or insubstantial requests for a hearing. If a substantial request for a public hearing is made by June 9, 2021, EPA Region 9 will hold a public hearing. Any request for a public hearing shall include the following information: 1. The name, address, and telephone number of the individual, organization, or other entity requesting a hearing; 2. A brief statement of the requesting person's interest in the Regional Administrator's determination and a brief statement of the information that the requesting person intends to submit at such hearing; and 3. The signature of the individual making the request, or, if the request is made on behalf of an organization or other entity, the signature of a responsible official of the organization or other entity.

If EPA does not receive a timely and appropriate request for a hearing and the Regional Administrator does not elect to hold a hearing on her own motion, this determination shall become final and effective on June 10, 2021, and no further public notice will be issued.

Authority: Section 1413 of the Safe Drinking Water Act, as amended, 42 U.S.C. 300g-2 (1996), and 40 CFR part 142 of the National Primary Drinking Water Regulations.

Dated: April 30, 2021.
Deborah Jordan,
Acting Regional Administrator, EPA Region 9.

[FR Doc. 2021-09843 Filed 5-7-21; 8:45 am]

BILLING CODE 6560-50-P